DEPARTMENT OF LABOR

Mine Safety and Health Administration

Petitions for Modification of Application of Existing Mandatory Safety Standards

AGENCY: Mine Safety and Health Administration, Labor.

ACTION: Notice.

SUMMARY: Section 101(c) of the Federal Mine Safety and Health Act of 1977 and Title 30 of the Code of Federal Regulations Part 44 govern the application, processing, and disposition of petitions for modification. This notice is a summary of petitions for modification submitted to the Mine Safety and Health Administration (MSHA) by the parties listed below.

DATES: All comments on the petitions must be received by the MSHA's Office of Standards, Regulations, and Variances on or before February 19, 2016.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Acting Director, Office of Standards, Regulations, and Variances. Persons delivering documents are required to check in at the receptionist's desk in Suite 4E401. Individuals may inspect copies of the petitions and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (Email), or 202-693-9441 (Facsimile). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2015-0026-C.

Petitioner: Lone Mountain Processing, Inc., Drawer C, St. Charles, VA 24282.

Mine: Clover Fork No. 1 Mine, MSHA I.D. No. 15-18647, Huff Creek No. 1 Mine, MSHA I.D. No. 15-17234, Darby Fork No. 1 Mine, MSHA I.D. No. 15-02263, located in Harlan County, Kentucky.

Regulation Affected: 30 CFR 75.310(a)(3) (Installation of main mine fans).

Modification Request: The petitioner requests a modification of the existing standard to permit the use of fan signal monitoring provided by the Communication Center at the Huff Creek Mine as an alternative to having personnel on the surface at the mine to monitor fan operation. The petitioner states that:

(1) Currently the Clover Fork fans can be monitored for operation at the Communication Center. This Communication Center is manned continuously when miners are underground by a qualified atmospheric monitoring system (AMS) operator as required in 30 CFR 75.156. This operator is currently responsible for monitoring the Clover Fork Mine, Huff Creek Mine, and Darby Fork Mine AMS systems. This operator is familiar with the underground workings of the Clover Fork Mine and will regularly travel to all working sections every six months as required. In addition to having the AMS operator continuously monitoring the main mine fans for the Clover Fork Mine, Lone Mountain Processing will be installing a system to activate the existing section alarms at all three mines to alarm when any main mine fan slows or stops. This alarm will provide an audible and visual alarm to alert miners that an event has occurred. Constant communications is provided to all three interconnected mines via the Huff Creek Communication Center. All approved ventilation plans provide instructions to evacuate the mine when a fan outage occurs. Should there be an interruption in the fan operations, a notification of the interruption can be given to the miners underground at Clover Fork Mine from the Huff Creek Communication Center. Clover Fork Mine management believes that these provisions for fan monitoring will provide a greater degree of safety than having mine personnel monitor the fan from the surface at the Clover Fork Mine.

(2) Fan alarm signal monitoring by the Communication Center is accomplished in two ways: First by fan signal connection to mine phones and by a fiber optic line that is from the Clover Fork Mine to the Huff Creek Mine. Both systems are routed through each mine to an underground borehole connection to remove issues with inclement weather. The fiber optic line is connected to the CO monitoring and tracking system computer at Clover Fork Mine which receives an input from the fan alarm signal device. The fiber optic terminates at a computer in the Communication Center and provides both audible and visual notification if the Clover Fork fan should stop operating, as well as all working sections at all three aforementioned mines.

(3) Voice communication to the Clover Fork Mine is accomplished by three separate connections and also by wireless tracking system radios. Primary communication is a mine phone line routed through an underground borehole connection between the two mines. Backup to the mine phone system is an overland copper pair for the emergency phone system that is provided by the land line telephone company. A third way of communication to the mine is land line telephone to the mine office. Tracking system radios mentioned above also provide a wireless fourth means of communication.

(4) The Communication Center is also provided with a “kill feature” system designed to deenergize the AMS system for the Clover Fork Mine should any main mine fan fail. All AMS operators are trained how to perform this procedure and written instructions are provided inside the Communication Center. This feature will be maintained in working order at all times or otherwise immediate corrective actions will be taken to correct the condition and a designated person will be required to monitor the main mine fans at the Clover Fork Mine until the system is in proper working order. The AMS system is routed through underground workings and underground borehole connections as previously mentioned.

The petitioner asserts that the proposed alternative method will provide a greater degree of safety than having mine personnel monitor the fan from the surface at the Clover Fork Mine.

Docket Number: M-2015-027-C.

Petitioner: Peabody Energy Company, 115 Grayson Lane, Eldorado, Illinois 62930.

Mine: Wildcat Hills Underground Mine, MSHA I.D. No. 11-03156, located in Saline County, Illinois.

Regulation Affected: 30 CFR 75.500(d) (Permissible electric equipment).

Modification Request: The petitioner requests a modification of the existing standard to permit an alternative method of compliance to permit the use of nonpermissible electronic testing or diagnostic equipment in or inby the last open crosscut. The petitioner states that:

(1) Nonpermissible electronic testing and diagnostic equipment to be used include: Laptop computers; oscilloscopes; vibration analysis machines; cable fault detectors; point temperature probes; infrared temperature devices; insulation testers (meggers); voltage, current, resistance, and power measurement devices; ultrasonic thickness gauges; electronic component testers; and electronic tachometers. Other testing and diagnostic equipment may be used if approved in advance by the MSHA District Manager.

(2) All nonpermissible testing and diagnostic equipment used in or inby the last open crosscut will be examined by a qualified person as defined in 30 CFR 75.153, prior to use to ensure the equipment is being maintained in a safe operating condition. The examination results will be recorded in the weekly examination book and will be made available to MSHA and the miners at the mine.

(3) A qualified person as defined in 30 CFR 75.151 will continuously monitor for methane immediately before and during the use of nonpermissible electronic testing and diagnostic equipment in or inby the last open crosscut.

(4) Nonpermissible electronic testing and diagnostic equipment will not be used if methane is detected in concentrations at or above one percent. When one percent or more methane is detected while the nonpermissible electronic equipment is being used, the equipment will be deenergized immediately and the nonpermissible electronic equipment will be withdrawn outby the last open crosscut.

(5) All hand-held methane detectors will be MSHA-approved and maintained in permissible and proper operating condition as defined in 30 CFR 75.320.

(6) Except for time necessary to trouble shoot under actual mining conditions, coal production in the section will cease. However, coal may remain in or on the equipment to test and diagnose the equipment under “load.”

(7) All electronic testing and diagnostic equipment will be used in accordance with the safe use procedures recommended by the manufacturer.

(8) Qualified personnel who used electronic testing and diagnostic equipment will be properly trained to recognize the hazards and limitations associated with use of the equipment.

The petitioner asserts that under the terms and conditions of this petition for modification, the use of nonpermissible electronic testing and diagnostic equipment will at all times guarantee not less than the same measure of protection afforded by the existing standard.

Sheila McConnell,
Acting Director, Office of Standards, Regulations, and Variances.

[FR Doc. 2016-00935 Filed 1-19-16; 8:45 am]

BILLING CODE 4520-43-P